NUCLEAR REGULATORY COMMISSION

Sunshine Federal Register Notice

AGENCY: Nuclear Regulatory Commission.

DATES: Weeks of June 1, 8, 15, 22, 29, July 6, 2009.

Place: Commissioners' Conference Room, 11555 Rockville Pike, Rockville, Maryland.

Status: Public and closed.

Week of June 1, 2009

Wednesday, June 3, 2009

9:30 a.m.

Briefing on New Reactor Issues—Component Fabrication and Oversight—Part 1 (Public Meeting).

1:30 p.m.

Briefing on New Reactor Issues—Component Fabrication and Oversight—Part 2 (Public Meeting).

(Contact for both parts: Roger Rihm, 301-415-7807.)

Both parts of this meeting will be webcast live at the Web address— http://www.nrc.gov.

Thursday, June 4, 2009

9:30 a.m.

Briefing on Digital Instrumentation and Control (Public Meeting). (Contact: Steve Arndt, 301-415-6502.)

This meeting will be webcast live at the Web address— http://www.nrc.gov.

1:25 p.m.

Affirmation Session (Public Meeting) (Tentative).

a. Entergy Nuclear Generation Co. and Entergy Nuclear Operations, Inc. (Pilgrim Nuclear Power Station) Commonwealth of Massachusetts Petition for Review of LBP-08-22; Entergy Nuclear Vermont Yankee, LLC, and Entergy Nuclear Operations, Inc. (Vermont Yankee Nuclear Power Station) Commonwealth of Massachusetts Petition for Review of LBP-08-25 (Tentative).

b. Entergy Nuclear Generation Co. and Entergy Nuclear Operations, Inc. (Pilgrim Nuclear Power Station) (Tentative).

This meeting will be webcast live at the Web address— http://www.nrc.gov.

1:30 p.m.

Meeting with the Advisory Committee on Reactor Safeguards (Public Meeting) (Contact: Tanny Santos, 301-415-7270).

This meeting will be webcast live at the Web address— http://www.nrc.gov.

Week of June 8, 2009—Tentative

There are no meetings scheduled for the week of June 8, 2009.

Week of June 15, 2009—Tentative

There are no meetings scheduled for the week of June 15, 2009.

Week of June 22, 2009—Tentative

Thursday, June 25, 2009

1:30 p.m.

Meeting with Advisory Committee on the Medical Uses of Isotopes (Public Meeting). (Contact: Ashley Cockerham, 240-888-7129.)

This meeting will be webcast live at the Web address— http://www.nrc.gov.

Friday, June 26, 2009

9:30 a.m.

Discussion of Security Issues (Closed—Ex. 3).

Week of June 29, 2009—Tentative

There are no meetings scheduled for the week of June 29, 2009.

Week of July 6, 2009—Tentative

There are no meetings scheduled for the week of July 6, 2009.

* * * * *

* The schedule for Commission meetings is subject to change on short notice. To verify the status of meetings, call (recording)—(301) 415-1292. Contact person for more information: Rochelle Bavol, (301) 415-1651.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at rohn.brown@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

Dated: May 28, 2009.
Rochelle C. Bavol,
Office of the Secretary.

[FR Doc. E9-13019 Filed 6-1-09; 11:15 am]

BILLING CODE 7590-01-P